DEPARTMENT OF ENERGY

[Docket No. EA-294]

Application to Export Electric Energy; TexMex Energy, LLC

AGENCY: Office of Fossil Energy, DOE.

ACTION: Notice of application.

SUMMARY: TexMex Energy, LLC (TexMex) has applied for authority to transmit electric energy from the United States to Mexico pursuant to section 202(e) of the Federal Power Act.

DATES: Comments, protests or requests to intervene must be submitted on or before August 2, 2004.

ADDRESSES: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On June 4, 2004, the Office of Fossil Energy (FE) of the Department of Energy (DOE) received an application from TexMex to transmit electric energy from the United States to Mexico. TexMex is a wholly-owned subsidiary of Protama, S.A. de C.V. (Protama), a Mexican corporation that specializes in the development of energy projects. TexMex was formed by Protama for the exclusive purpose of purchasing power at wholesale within the United States for export to Mexico. TexMex is a limited liability company organized and existing under the laws of the State of Delaware with its principal place of business located in Mexico. TexMex does not own, operate or control any electric power generation, transmission or distribution facilities in the United States, nor is it affiliated with any owner of such facilities within the United States.

TexMex proposes to arrange for the delivery of electric energy to Mexico over the international transmission facilities owned by El Paso Electric Company, Central Power and Light Company, and Comision Federal de Electricidad, the national electric utility of Mexico. The construction of each of the international transmission facilities to be utilized, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the TexMex application to export electric energy to Mexico should be clearly marked with Docket EA-294. Additional copies are to be filed directly with Guillermo Gonzalez G., c/o Protama S.A. de C.V., Tonala 44, Col. Roma, 06700 Mexico D.F., Mexico and Doug F. John, John & Hengerer, 1200 12th Street, NW., Suite 600, Washington, DC 20036-3013.

A final decision will be made on this application after the environmental impacts have been evaluated pursuant to the National Environmental Policy Act of 1969 (NEPA), and a determination is made by the DOE on whether the proposed action would adversely impact on the reliability of the U.S. electric power supply system.

Copies of this application will be made available, upon request, for public inspection and copying at the address provided above or by accessing the Fossil Energy Home Page at http://www.fe.doe.gov. Upon reaching the Fossil Energy Home page, select “Electricity Regulation,” then “Pending Proceedings” from the options menus.

Issued in Washington, DC, on June 25, 2004.
Anthony J. Como,
Deputy Director, Electric Power Regulation, Office of Coal & Power Import/Export, Office of Coal & Power Systems, Office of Fossil Energy.

[FR Doc. 04-15011 Filed 7-1-04; 8:45 am]

BILLING CODE 6450-01-P